DEPARTMENT OF JUSTICE

Drug Enforcement Administration

[OMB Number 1117-0012]

Agency Information Collection Activities: Proposed Collection; Comments Requested: Application for Registration (DEA Form 225); Application for Registration Renewal (DEA Form 225a); Affidavit for Chain Renewal (DEA Form 225B)

ACTION: 60-Day Notice of Information Collection Under Review.

The Department of Justice (DOJ), Drug Enforcement Administration (DEA), will be submitting the following information collection request to the Office of Management and Budget (OMB) for review and approval in accordance with the Paperwork Reduction Act of 1995. The proposed information collection is published to obtain comments from the public and affected agencies. Comments are encouraged and will be accepted until November 14, 2008. This process is conducted in accordance with 5 CFR 1320.10.

If you have comments, especially on the estimated public burden or associated response time, suggestions, or need a copy of the proposed information collection instrument with instructions or additional information, please contact Mark W. Caverly, Chief, Liaison and Policy Section, Office of Diversion Control, Drug Enforcement Administration, 8701 Morrissette Drive, Springfield, VA 22152, Telephone (202) 307-7297.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of Information Collection 1117-0012

(1) Type of Information Collection: Extension of a currently approved collection.

(2) Title of the Form/Collection:

Application for Registration (DEA Form 225);

Application for Registration Renewal (DEA Form 225a);

Affidavit for Chain Renewal (DEA Form 225B).

(3) Agency form number, if any, and the applicable component of the Department of Justice sponsoring the collection:

Form Number: DEA Form 225, 225a, and 225B;

Office of Diversion Control, Drug Enforcement Administration, Department of Justice.

(4) Affected public who will be asked or required to respond, as well as a brief abstract: Primary: Business or other for-profit. Other: Not-for-Profit Institutions; State, Local or Tribal Government. Abstract: The Controlled Substances Act requires all persons who manufacture, distribute, import, export, conduct research or dispense controlled substances to register with DEA. Registration provides a closed system of distribution to control the flow of controlled substances through the distribution chain.

(5) An estimate of the total number of respondents and the amount of time estimated for an average respondent to respond: It is estimated that 725 persons complete DEA Form 225 on paper, at 30 minutes per form, for an annual burden of 362.5 hours. It is estimated that 1,397 persons complete DEA Form 225 electronically, at 10 minutes per form, for an annual burden of 232.8 hours. It is estimated that 5,481 persons complete DEA Form 225a on paper, at 30 minutes per form, for an annual burden of 2,740.5 hours. It is estimated that 5,948 persons complete DEA Form 225a electronically, at 10 minutes per form, for an annual burden of 991.3 hours. It is estimated that 4 persons complete DEA Form 225B on paper, at 1 hour per form, for an annual burden of 4 hours.

(6) An estimate of the total public burden (in hours) associated with the collection: It is estimated that this collection will create a burden of 4,331.1 annual burden hours.

If additional information is required contact: Lynn Bryant, Department Clearance Officer, United States Department of Justice, Justice Management Division, Policy and Planning Staff, Patrick Henry Building, Suite 1600, 601 D Street, NW., Washington, DC 20530.

Dated: September 9, 2008.
Lynn Bryant,
Department Clearance Officer, PRA, U.S. Department of Justice.

[FR Doc. E8-21441 Filed 9-12-08; 8:45 am]

BILLING CODE 4410-09-P